DEPARTMENT OF ENERGY

Federal Energy Regulatory Commission

[Docket Nos. CP97-315-000, et al., CP97-319-000, CP98-200-000, and CP98-540-000; Docket Nos. ER98-3760-000 et al.]

Independence Pipeline Company, ANR Pipeline Company, National Fuel Gas Supply Corporation and Transcontinental Gas Pipeline Corporation; California Independent System Operator; Notice

April 18, 2000.

Take notice that, on the Commission's Docket Sheets and Service Lists web page, the link to Restricted Service Lists has been revised to include a new service list in the above designated pending dockets.

The new restricted service lists have been established by the Secretary pursuant to Rule 2010(d), 18 CFR 385.2010(d).

These service lists are available in both PDF and WordPerfect file formats. See http://fercdocket.ferc.fed.us/pa/pa.htm

David P. Boergers,
Secretary.

[FR Doc. 00-10096 Filed 4-21-00; 8:45 am]

BILLING CODE 6717-01-M